DEPARTMENT OF ENERGY

Federal Energy Regulatory Commission

[Project No. 13642-003]

GB Energy Park, LLC; Notice of Application Ready for Environmental Analysis and Soliciting Comments, Recommendations, Terms and Conditions, and Prescriptions

Take notice that the following hydroelectric application has been filed with the Commission and is available for public inspection.

a. Type of Application: Unconstructed Major Project.

b. Project Nos.: 13642-003.

c. Date Filed: October 1, 2015.

d. Applicant: GB Energy Park, LLC.

e. Name of Project: Gordon Butte Pumped Storage Project.

f. Location: Approximately 3 miles west of the City of Martinsdale, Meagher County, Montana. The proposed project would not occupy any federal lands.

g. Filed Pursuant to: Federal Power Act 16 U.S.C. 791 (a)-825(r).

h. Applicant Contact: Carl. E. Borgquist, President, GB Energy Park, LLC, 209 Wilson Avenue, P.O. Box 309, Bozeman, MT 59771; (406) 585-3006; carl@absarokaenergy.com.

i. FERC Contact: Mike Tust; (202) 502-6522 or michael.tust@ferc.gov.

j. Deadline for filing comments, terms and conditions, recommendations, and prescriptions: 60 days from the issuance date of this notice; reply comments are due 105 days from the issuance date of this notice.

The Commission strongly encourages electronic filing. Please file comments, recommendations, terms and conditions, and prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include the docket number P-13642-003.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis. If no substantive comments are received in response to this notice, the Commission proposes to issue a single EA by August 2016. If the Commission decides to issue a draft EA and no substantive comments are received on the draft, a final EA will not be necessary, in which case the draft EA will become the final EA. Revisions to the schedule may be made as appropriate.

l. The Gordon Butte Hydroelectric Project would consist of the following new facilities: (1) A manually operated head gate on an existing irrigation canal that provides initial fill and annual make-up water to the lower reservoir from the existing irrigation canal; (2) a 3,000-foot-long, 1,000-foot-wide upper reservoir created by a 60-foot-high, 7,500-foot-long concrete-faced rockfill dam; (3) a reinforced concrete intake/outlet structure at the upper reservoir with six gated intake bays converging into a central 18-foot-diameter, 750-foot-long vertical shaft; (4) an 18-foot-diameter, 3,000-foot-long concrete and steel-lined penstock tunnel leading from the upper reservoir to the lower reservoir; (5) a 2,300-foot-long, 1,900-foot-wide lower reservoir created by a combination of excavation and two 60-foot-high, 500- and 750-foot-long concrete-faced rockfill dams; (6) a partially buried 338-foot-long, 109-foot-wide, 74-foot-high reinforced concrete and steel powerhouse with four 100-megawatt (MW) ternary Pelton turbine/pump/generators; (7) a 600-foot-long, 200-foot-wide substation at the powerhouse site with 13.8-kilovolt (kV) to 230-kV step-up transformers; (8) a 5.7-mile-long, 230-kV transmission line; (9) a 1,200-foot-long, 1,450-foot wide substation with a 230-kV to 500-kV step-up transformer, connecting to an existing non-project 500-kV transmission line; and (11) appurtenant facilities. The project is estimated to provide 1,300 gigawatt-hours annually. No federal lands are included in the project.

m. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

All filings must (1) bear in all capital letters the title “COMMENTS,” “REPLY COMMENTS,” “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

You may also register online at http://www.ferc.gov/docs-filing/esubscription.asp to be notified via email of new filings and issuances related to this or other pending projects. For assistance, contact FERC Online Support.

n. Public notice of the filing of the initial development application, which has already been given, established the due date for filing competing applications or notices of intent. Under the Commission's regulations, any competing development application must be filed in response to and in compliance with public notice of the initial development application. No competing applications or notices of intent may be filed in response to this notice.

Dated: February 4, 2016.
Nathaniel J. Davis, Sr.,
Deputy Secretary.

[FR Doc. 2016-02635 Filed 2-9-16; 8:45 am]

BILLING CODE 6717-01-P